DEPARTMENT OF ENERGY

Federal Energy Regulatory Commission

[Docket Nos. RP15-101-000, RP15-101-001]

Florida Gas Transmission Company, LLC; Notice of Technical Conference

Take notice that a technical conference will be held on Thursday, February 5, 2015, at 10:00 a.m. (Eastern Standard Time), in a room to be designated at the offices of the Federal Energy Regulatory Commission (Commission), 888 First Street NE., Washington, DC 20426.

At the technical conference, the Commission Staff and the parties to the proceeding should be prepared to discuss all issues set for technical conference as established in the November 28, 2014 Order.¹

¹ Florida Gas Transmission Company, LLC, 149 FERC ¶ 61,188 (2014).

FERC conferences are accessible under section 508 of the Rehabilitation Act of 1973. For accessibility accommodations please send an email to accessibility@ferc.gov or call toll free (866) 208-3372 (voice) or 202-502-8659 (TTY), or send a fax to 202-208-2106 with the required accommodations.

All interested persons are permitted to attend. For further information please contact Robert McLean at (202) 502-8156 or email Robert.McLean@ferc.gov.

Dated: January 16, 2015.
Kimberly D. Bose,
Secretary.

[FR Doc. 2015-01142 Filed 1-22-15; 8:45 am]

BILLING CODE 6717-01-P